FEDERAL MINE SAFETY AND HEALTH REVIEW COMMISSION

Sunshine Act Meeting

April 3, 2012.

TIME AND DATE: 1 p.m., Wednesday, April 11, 2012.

PLACE: The Richard V. Backley Hearing Room, 9th Floor, 601 New Jersey Avenue NW., Washington, DC.

STATUS: Open.

MATTERS TO BE CONSIDERED: The Commission will consider and act upon the following in open session: William Metz v. Carmeuse Lime, Inc., Docket No. PENN 2009-541-DM. (Issues include whether the operator terminated the miner's employment in violation of 30 U.S.C. 815(c)(3).)

Any person attending this meeting who requires special accessibility features and/or auxiliary aids, such as sign language interpreters, must inform the Commission in advance of those needs. Subject to 29 CFR 2706.150(a)(3) and 2706.160(d).

CONTACT PERSON FOR MORE INFO: Jean Ellen (202) 434-9950 (202) 708-9300 for TDD Relay 1-800-877-8339 for toll free.

Emogene Johnson,
Administrative Assistant.

[FR Doc. 2012-8587 Filed 4-5-12; 4:15 pm]

BILLING CODE 6735-01-P